DEPARTMENT OF TRANSPORTATION

Federal Aviation Administration

14 CFR Part 39

[Docket No. FAA-2014-0139; Directorate Identifier 2012-NM-133-AD]

RIN 2120-AA64

Airworthiness Directives; Airbus Airplanes

AGENCY: Federal Aviation Administration (FAA), DOT.

ACTION: Notice of proposed rulemaking (NPRM).

SUMMARY: We propose to supersede airworthiness directive (AD) 2009-20-05 that applies to certain Model A318, A319, A320, and A321 series airplanes. AD 2009-20-05 requires one-time inspections for cracking, damage, correct installation, and correct adjustment of the main landing gear (MLG) door hinge and actuator fittings on the keel beam, and corrective actions if necessary. Since we issued AD 2009-20-05, we have received reports of cracks on fittings that had successfully passed the required inspections. This proposed AD would expand the applicability, reduce the compliance time, and require repetitive inspections instead of the one-time inspection. This proposed AD would also require revising the maintenance or inspection program to remove a certain airworthiness limitations item (ALI) task. We are proposing this AD to detect and correct such cracking, which could lead to in-flight detachment of an MLG door, possibly resulting in injury to persons on the ground and/or damage to the airplane.

DATES: We must receive comments on this proposed AD by April 28, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0139; or in person at the Docket Management Facility between 9 a.m. and 5 p.m., Monday through Friday, except Federal holidays. The AD docket contains this proposed AD, the regulatory evaluation, any comments received, and other information. The street address for the Docket Operations office (telephone (800) 647 5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2014-0139; Directorate Identifier 2012-NM-133-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 15, 2009, we issued AD 2009-20-05, Amendment 39-16028 (74 FR 49795, September 29, 2009). AD 2009-20-05 requires actions intended to address an unsafe condition on certain Model A318, A319, A320, and A321 series airplanes.

Since we issued AD 2009-20-05, Amendment 39-16028 (74 FR 49795, September 29, 2009), we have received reports of cracks on fittings that had successfully passed the required inspections. The European Aviation Safety Agency (EASA), which is the Technical Agent for the Member States of the European Community, has issued EASA Airworthiness Directive 2012-0118, dated July 4, 2012 (referred to after this as the Mandatory Continuing Airworthiness Information, or “the MCAI”), to correct an unsafe condition for the specified products. The MCAI states:

Several cases of cracks have reportedly been found on the MLG door hinge fitting and on the MLG door actuator fitting on the keel beam.

This condition, if not detected and corrected, could lead to in-flight detachment of a MLG door, possibly resulting in injury to persons on the ground and/or damage to the aeroplane.

To address this potential unsafe condition, EASA issued EASA AD 2007-0161 [http://ad.easa.europa.eu/blob/easa_ad_2007_0161_superseded.pdf/AD_2007-0161_1] [which corresponds to FAA AD 2009-20-05, Amendment 39-16028 (74 FR 49795, September 29, 2009)], to require a one-time inspection of the affected fittings and accomplishment of the applicable corrective actions.

Since that [EASA] AD was issued, some cracks have been found on fittings that had successfully passed the one-time inspection as required by EASA AD 2007-0161. Analyses of these cracks have lead Airbus to reconsider the repetitive inspections of the MLG door hinge and actuator fittings on the keel beam, in accordance with the ALI task 533154-02-1 requirement as defined in Airbus A318/A319/A320/A321 Airworthiness Limitation Items (ALI) Document, by introducing more restrictive inspection thresholds and intervals.

For the reasons stated above, this [EASA] AD, which supersedes EASA AD 2007-0161 and the ALI [Airworthiness Limitations Item] task 533154-02-1 requirements, expands the [EASA] AD applicability to all A318/A319/A320/A321 aeroplanes and requires repetitive inspections of the MLG door hinge and actuator fittings on the keel beam at a new threshold and interval and, depending on findings, the accomplishment of applicable corrective actions.

The inspections are detailed, high frequency eddy current (HFEC), and ultrasonic inspections for cracking, damage, correct installation, and correct adjustment, as applicable. The corrective actions include correcting incorrect adjustments and installations, and repair. Additionally, this proposed AD would require, for certain airplanes, contacting the FAA for instructions on repairs and accomplishing those instructions. This proposed AD would also require revising the maintenance program to remove ALI task 533154-02-1. You may examine the MCAI in the AD docket on the Internet at http://www.regulations.gov by searching for and locating it in Docket No. FAA-2014-0139.

Relevant Service Information

Airbus has issued Airbus Mandatory Service Bulletin A320-53-1195, Revision 03, including Service Bulletin Reporting Sheet, dated November 8, 2011; and Airbus Mandatory Service Bulletin A320-53-1196, Revision 02, including Service Bulletin Reporting Sheet, dated November 8, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Repair Approvals

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, certain requirements specified in this proposed AD require that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to a DAH authorized to approve certain required repairs for this proposed AD.

Differences Between This AD and the MCAI or Service Information

The MCAI specifies for airplanes on which a Repair Approval Sheet (RAS) has been issued by Airbus to cover findings from an inspection performed before the effective date of this AD, as described in certain Airbus documents, accomplishing the RAS instructions and thereafter doing the repetitive inspections specified in the MCAI. This proposed AD does not require those actions as mandated by the MCAI. However, we would like to clarify that an RAS issued by the DAH under the authority of EASA's DOA is an approved method of repair. This difference has been coordinated with the EASA.

Costs of Compliance

We estimate that this proposed AD affects 851 airplanes of U.S. registry.

The actions that are required by AD 2009-20-05, Amendment 39-16028 (74 FR 49795, September 29, 2009), and retained in this proposed AD take about 28 work-hours per product, at an average labor rate of $85 per work-hour. Based on these figures, the estimated cost of the actions that were required by AD 2009-20-05 is $2,380 per product.

We also estimate that it would take about 26 work-hours per product to comply with the basic requirements of this proposed AD. The average labor rate is $85 per work-hour. Based on these figures, we estimate the cost of this proposed AD on U.S. operators to be $1,880,710, or $2,210 per product.

We have received no definitive data that would enable us to provide cost estimates for the on-condition actions specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-20-05, Amendment 39-16028 (74 FR 49795, September 29, 2009), and adding the following new AD:

Airbus: Docket No. FAA-2014-0139; Directorate Identifier 2012-NM-133-AD.

(a) Comments Due Date

We must receive comments by April 28, 2014.

(b) Affected ADs

This AD supersedes AD 2009-20-05, Amendment 39-16028 (74 FR 49795, September 29, 2009).

(c) Applicability

This AD applies to the Airbus airplanes specified in paragraphs (c)(1), (c)(2), (c)(3), and (c)(4) of this AD, certificated in any category, all manufacturer serial numbers.

(1) Model A318-111, -112, -121, and -122 airplanes.

(2) Model A319-111, -112, -113, -114, -115, -131, -132, and -133 airplanes.

(3) Model A320-211, -212, -214, -231, -232, and -233 airplanes.

(4) Model A321-111, -112, -131, -211, -212, -213, -231, and -232 airplanes.

(d) Subject

Air Transport Association (ATA) of America Code 53, Fuselage.

(e) Reason

This AD was prompted by reports of cracks on the main landing gear (MLG) door hinge fitting and actuator fitting on the keel beam. We are issuing this AD to detect and correct such cracking, which could lead to in-flight detachment of an MLG door, possibly resulting in injury to persons on the ground and/or damage to the airplane.

(f) Compliance

Comply with this AD within the compliance times specified, unless already done.

(g) Retained One-Time Inspections and Corrective Action

This paragraph restates the requirements of paragraphs (f)(1) and (f)(2) of AD 2009-20-05, Amendment 39-16028 (74 FR 49795, September 29, 2009). For airplanes having serial numbers up to manufacturer's serial number (MSN) 2850 inclusive, except MSNs 0115, 0184, 0782, 1151, 1190, 2650, 2675, 2706, 2801, and 2837: Do the actions required by paragraphs (g)(1) and (g)(2) of this AD.

(1) At the latest of the times specified in paragraphs (g)(1)(i), (g)(1)(ii), and (g)(1)(iii) of this AD: Perform detailed visual, high frequency eddy current (HFEC), and ultrasonic inspections (for cracking, damage, correct installation, and correct adjustment, as applicable) of the left-hand (LH) and right-hand (RH) MLG door actuator fitting on the keel beam, and do all applicable corrective actions before further flight, except as provided by paragraph (h) of this AD. Do all actions required by this paragraph in accordance with the Accomplishment Instructions of Airbus Mandatory Service Bulletin A320-53-1195, Revision 02, including Appendix 01, dated April 5, 2007; except where that service information specifies that the applicable corrective action is contacting Airbus, contact Airbus for repair instructions and repair before further flight. As of the effective date of this AD, repair using a method approved by the Manager, ANM-116, Transport Airplane Directorate, FAA; or the European Aviation Safety Agency (EASA) (or its delegated agent, or the Design Approval Holder (DAH) with the EASA design organization approval, as applicable). For a repair method to be approved as of the effective date of this AD, the repair approval must specifically refer to this AD.

(i) Within 6,000 flight cycles since first flight.

(ii) Within 1,500 flight cycles after November 3, 2009 (the effective date of AD 2009-20-05, Amendment 39-16028 (74 FR 49795, September 29, 2009)).

(iii) Within 6,000 flight cycles from the latest MLG door actuator fitting replacement.

(2) At the later of the times specified in paragraphs (g)(2)(i) and (g)(2)(ii) of this AD: Perform detailed visual and HFEC inspections (for cracking, damage, correct installation, and correct adjustment, as applicable) of the LH and RH MLG door hinge fitting on the keel beam, and do all applicable corrective actions before further flight, except as provided by paragraph (h) of this AD. Do all actions required by this paragraph in accordance with the Accomplishment Instructions of Airbus Mandatory Service Bulletin A320-53-1196, Revision 01, including Appendix 01, dated November 29, 2006; except where that service information specifies that the applicable corrective action is contacting Airbus, contact Airbus for repair instructions and repair before further flight. As of the effective date of this AD, repair using a method approved by the Manager, ANM-116, Transport Airplane Directorate, FAA; or the European Aviation Safety Agency (EASA) (or its delegated agent, or the Design Approval Holder (DAH) with the EASA design organization approval, as applicable). For a repair method to be approved as of the effective date of this AD, the repair approval must specifically refer to this AD.

(i) Within 4,500 flight cycles since first flight.

(ii) Within 1,500 flight cycles after November 3, 2009 (the effective date of AD 2009-20-05, Amendment 39-16028 (74 FR 49795, September 29, 2009)).

(h) Retained Exception to Paragraph (g) of This AD

This paragraph restates the exception specified in paragraph (f)(4) of AD 2009-20-05, Amendment 39-16028 (74 FR 49795, September 29, 2009). Where the Accomplishment Instructions of Airbus Mandatory Service Bulletin A320-53-1195, Revision 02, including Appendix 01, dated April 5, 2007; or Airbus Mandatory Service Bulletin A320-53-1196, Revision 01, including Appendix 01, dated November 29, 2006; specify to submit a report where no damage or crack is found during the inspection required by paragraph (g)(1) or (g)(2) of this AD: Send the report to Airbus using the applicable reporting sheet in Appendix 01 of Airbus Mandatory Service Bulletin A320-53-1195, Revision 02, dated April 5, 2007; or Airbus Mandatory Service Bulletin A320-53-1196, Revision 01, dated November 29, 2006. Send the report at the applicable time specified in paragraph (h)(1) or (h)(2) of this AD.

(1) If the inspection was done on or after November 3, 2009 (the effective date of AD 2009-20-05, Amendment 39-16028 (74 FR 49795, September 29, 2009)): Submit the report within 30 days after the inspection.

(2) If the inspection was done before November 3, 2009 (the effective date of AD 2009-20-05, Amendment 39-16028 (74 FR 49795, September 29, 2009)): Submit the report within 30 days after November 3, 2009.

(i) New Repetitive Inspections and Corrective Action

(1) At the latest of the times specified in paragraphs (i)(1)(i), (i)(1)(ii), and (i)(1)(iii) of this AD: Perform detailed, HFEC, and ultrasonic inspections (for cracking, damage, correct installation, and correct adjustment, as applicable) of the LH and RH MLG door actuator fitting on the keel beam, and do all applicable corrective actions before further flight. Do all actions required by this paragraph in accordance with the Accomplishment Instructions of Airbus Mandatory Service Bulletin A320-53-1195, Revision 03, including Service Bulletin Reporting Sheet, dated November 8, 2011; except where that service information specifies that the applicable corrective action is contacting Airbus, before further flight, repair using a method approved by the Manager, International Branch, ANM-116, Transport Airplane Directorate, FAA; or the EASA (or its delegated agent, or the Design Approval Holder (DAH) with the EASA design organization approval, as applicable). For a repair method to be approved, the repair approval must specifically refer to this AD. Repeat the inspections thereafter at intervals not to exceed 2,250 flight cycles.

(i) Before the accumulation of 3,000 flight cycles since first flight.

(ii) Within 2,250 flight cycles after the most recent inspection done as specified in Airbus Service Bulletin A320-53-1195, or Task 533154-02-1 of the Airbus A318/A319/A320/A321 ALS Part 2—Damage Tolerant Airworthiness Limitations Items (DT ALI), as applicable.

(iii) Within 1,500 flight cycles after the effective date of this AD.

(2) At the latest of the times specified in paragraphs (i)(2)(i), (i)(2)(ii), and (i)(2)(iii) of this AD: Perform detailed and HFEC inspections (for cracking, damage, correct installation, and correct adjustment, as applicable) of the LH and RH MLG door hinge fitting on the keel beam, and do all applicable corrective actions before further flight. Do all actions required by this paragraph in accordance with the Accomplishment Instructions of Airbus Mandatory Service Bulletin A320-53-1196, Revision 02, including Service Bulletin Reporting Sheet, dated November 8, 2011; except where that service information specifies that the applicable corrective action is contacting Airbus, before further flight, repair using a method approved by the Manager, International Branch, ANM-116, Transport Airplane Directorate, FAA; or the EASA (or its delegated agent, or the DAH with the EASA design organization approval, as applicable). For a repair method to be approved, the repair approval must specifically refer to this AD. Repeat the inspections thereafter at intervals not to exceed 3,000 flight cycles.

(i) Before the accumulation of 3,000 flight cycles since first flight.

(ii) Within 3,000 flight cycles after the most recent inspection done as specified in Airbus Service Bulletin A320-53-1196, or Task 533154-02-1 of the Airbus A318/A319/A320/A321 ALS Part 2—Damage Tolerant Airworthiness Limitations Items (DT ALI), as applicable.

(iii) Within 1,500 flight cycles after the effective date of this AD.

(j) New Corrective Action Limitation

The accomplishment of a corrective action on an airplane, as required by paragraph (i) of this AD, does not constitute terminating action for the repetitive inspection requirements of this AD for that airplane.

(k) New Maintenance or Inspection Program Revision

After the effective date of this AD and before further flight after doing the inspection required by paragraph (i) of this AD: Revise the maintenance or inspection program, as applicable, to remove Task 533154-02-1 of the Airbus A318/A319/A320/A321 ALS Part 2—Damage Tolerant Airworthiness Limitations Items (DT ALI), Revision 01, dated April 4, 2012. The actions required by this AD take precedence over Task 533154-02-1 of the Airbus A318/A319/A320/A321 ALS Part 2—Damage Tolerant Airworthiness Limitations Items (DT ALI), Revision 01, dated April 4, 2012.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227 1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval, as applicable). You are required to ensure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Related Information

(1) Refer to Mandatory Continuing Airworthiness Information European Aviation Safety Agency Airworthiness Directive 2012-0118, dated July 4, 2012, for related information. This MCAI may be found in the AD docket on the Internet at http://www.regulations.gov by searching for and locating Docket No. FAA-2014-0139.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on February 28, 2014.
Jeffrey E. Duven,
Manager, Transport Airplane Directorate, Aircraft Certification Service.

[FR Doc. 2014-05434 Filed 3-11-14; 8:45 am]

BILLING CODE 4910-13-P